ENVIRONMENTAL PROTECTION AGENCY

[EPA-HQ-OAR-2003-0039, FRL-8110-4]

Agency Information Collection Activities: Proposed Collection; Comment Request; Reporting and Recordkeeping Requirements of the HCFC Allowance System, EPA ICR Number 2014.03, OMB Control Number 2060-0948

AGENCY: Environmental Protection Agency.

ACTION: Notice.

SUMMARY: In compliance with the Paperwork Reduction Act (44 U.S.C. 3501 et seq.), this document announces that EPA is planning to submit a request to renew an existing approved Information Collection Request (ICR) to the Office of Management and Budget (OMB). This is a request for to renew an existing approved collection. This ICR is scheduled to expire on June 30, 2006. Before submitting the ICR to OMB for review and approval, EPA is soliciting comments on specific aspects of the proposed information collection as described below.

DATES: Comments must be submitted on or before February 21, 2006.

ADDRESSES: Submit your comments, identified by Docket ID No. EPA-HQ-OAR-2003-0039, by one of the following methods:

• http://www.regulations.gov: Follow the on-line instructions for submitting comments.

• E-mail: a-and-r-Docket@epa.gov

• Fax: 202-566-1741

• Mail: Docket #, Air and Radiation Docket and Information Center, U.S. Environmental Protection Agency, Mailcode: 6102T, 1200 Pennsylvania Ave., NW., Washington, DC 20460.

• Hand Delivery: Docket ID No. EPA-HQ-OAR-2003-0039, Air and Radiation Docket at EPA West, 1301 Constitution Avenue NW., Room B108, Mail Code 6102T, Washington, DC 20460. Such deliveries are only accepted during the Docket's normal hours of operation, and special arrangements should be made for deliveries of boxed information.

Instructions: Direct your comments to Docket ID No. EPA-HQ-OAR-2003-0039. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov website is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Cindy Axinn Newberg, Stratospheric Protection Division, Office of Atmospheric Programs, Office of Air and Radiation, Mail Code 6205J, Environmental Protection Agency, 1200 Pennsylvania Ave., NW., Washington, DC 20460; telephone number: 202-343-9729 and email address: newberg.cindy@epa.gov.

SUPPLEMENTARY INFORMATION:

How Can I Access the Docket and/or Submit Comments?

EPA has established a public docket for this ICR under Docket ID No. EPA-HQ-OAR-2003-0039, which is available for online viewing at http://www.regulations.gov, or in person viewing at Air and Radiation Docket and Information Center in the EPA Docket Center (EPA/DC), EPA West, Room B102, 1301 Constitution Ave., NW., Washington, DC. The EPA/DC Public Reading Room is open from 8 a.m. to 4:30 p.m., Monday through Friday, excluding legal holidays. The telephone number for the Reading Room is 202-566-1744, and the telephone number for the Office of Air and Radiation, Docket is 202-566-1742.

Use http://www.regulations.gov to obtain a copy of the draft collection of information, submit or view public comments, access the index listing of the contents of the docket, and to access those documents in the public docket that are available electronically. Once in the system, select “search,” then key in the docket ID number identified in this document.

What Information Is EPA Particularly Interested In?

Pursuant to section 3506(c)(2)(A) of PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

[Docket ID No. EPA-HQ-OAR-2003-0039]

Affected entities: Entities potentially affected by this action are:

Category | NAICS code | SIC code | Examples of regulated entities
Chlorofluorocarbon gas manufacturing | 325120 | 2869 | Chlorodifluoromethane manufacturers; Dichlorofluoroethane manufacturers; Chlorodifluoroethane manufacturers.
Chlorofluorocarbon gas importers |  |  | Chlorodifluoromethane importers; Dichlorofluoroethane importers; Chlorodifluoroethane importers; Chlorodifluoromethane exporters; Dichlorofluoroethane exporters; Chlorodifluoroethane exporters.
Chlorofluorocarbon gas exporters |  |  | Insulation and cushioning, foam plastics (except polystyrene) manufacturing.
Urethane and Other Foam Product (Except Polystyrene) Manufacturing | 326150 | 3086

Title: Reporting and Recordkeeping Requirements of the HCFC Allowance System.

ICR numbers: EPA ICR No. 2014.03, OMB Control No. 2060-0498.

ICR status: This ICR is currently scheduled to expire on June 30, 2006. An Agency may not conduct or sponsor, and a person is not required to respond to, a collection of information, unless it displays a currently valid OMB control number. The OMB control numbers for EPA's regulations in title 40 of the CFR, after appearing in the Federal Register when approved, are listed in 40 CFR part 9, and included on the related collection instrument or form, if applicable.

Abstract: In order to continue to meet its obligations under the Montreal Protocol on Substances that Deplete the Ozone Layer (Protocol) and the Clean Air Act Amendments of 1990 (CAAA), EPA maintains an allowance system for class II controlled substances or hydrochlorofluorocarbons (HCFCs). Under the Protocol, the U.S. is obligated to limit HCFC consumption (defined by the Protocol as production plus imports, minus exports) under a specific cap. The U.S. is also a signatory to amendments that froze HCFC production on January 1, 2004. EPA is controlling U.S. production and import of HCFCs by granting baseline allowances based on the historical activity levels of producers and importers. Since each allowance will be equal to 1 kilogram of HCFC, EPA will be able to monitor the quantity of HCFCs being produced, imported, exported, transformed, or destroyed. There are two types of allowances: Consumption allowances and production allowances. Transfers of production and consumption allowances among producers and importers are allowed. Producers, importers, and exporters are required to submit to EPA quarterly reports of the quantity of HCFCs in each of their transactions; they are also required to report the quantity of HCFCs transformed or destroyed. EPA requires all producers, importers, and exporters maintain records such as Customs entry forms, bills of lading, sales records, and canceled checks to support their quarterly reports. The quarterly reports may be faxed or mailed to EPA and soon may be submitted electronically, where they are handled as confidential business information. EPA stores the submitted information in a computerized database designed to track allowance balances and transfer activities. When electronic reporting is available, EPA will change its guidance document and revise the ICR if there is any change in burden hours. EPA uses collected information to ensure that the U.S. maintains compliance with the Protocol caps, to report annually to the United Nations Environment Programme the U.S. activity in HCFCs, and to ensure that allowance holders are in compliance. The respondents are producers, importers, and exporters of HCFCs; and entities granted HCFC-141b exemption allowances.

Burden Statement: The annual public reporting and recordkeeping burden for this collection of information is currently estimated to average less than one hour per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 52.

Frequency of response: quarterly, annual, or one-time only.

Estimated total average number of responses for each respondent: 114.

Estimated total annual burden hours: 3,292 hours for respondents.

Estimated total annual costs: $472,197 for respondents. This includes the current OMB-approved estimated burden cost of $253,089 and an estimated cost of $219,108 for capital investment or maintenance and operational costs. There is no change of hours in the total estimated respondent burden compared with that identified in the ICR currently approved by OMB.

What Is the Next Step in the Process for This ICR?

EPA will consider the comments received, historical information with complying with the requirements of this ICR, and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: December 12, 2005.
Drusilla Hufford,
Division Director, Stratospheric Protection Division.

[FR Doc. E5-7559 Filed 12-19-05; 8:45 am]

BILLING CODE 6560-50-P